FEDERAL COMMUNICATIONS COMMISSION

47 CFR Part 73

[FCC 05-175, MB Docket No. 04-312, RM-11049]

Television Broadcast Service; Phoenix and Holbrook, AZ

AGENCY: Federal Communications Commission.

ACTION: Final rule.

SUMMARY: The Commission, at the request of NBC Telemundo Phoenix, Inc. (Telemundo) and Community Television Educators, Inc. (CTE) has amended the Television Table of Allotments to remove the noncommercial reservation of analog Channel *39 at Phoenix, Arizona, and reserve analog Channel 11 for noncommercial educational use at Holbrook, Arizona. The Commission has also modified the license of Telemundo's station KPHZ(TV) to specify Channel 39, Phoenix, and the license of CTE's station KDTP(TV) to specify Channel *11, Holbrook. With this action, this proceeding is terminated.

DATES: Effective November 28, 2005.

FOR FURTHER INFORMATION CONTACT: Shaun Maher, Media Bureau, (202) 418-1600.

SUPPLEMENTARY INFORMATION: This is a synopsis of the Commission's Memorandum Opinion and Order, MB Docket No. 04-312, adopted October 5, 2005, and released October 13, 2005. The full text of this document is available for public inspection and copying during regular business hours in the FCC Reference Information Center, Portals II, 445 12th Street, SW., Room CY-A257, Washington, DC. This document may also be purchased from the Commission's duplicating contractor, Best Copy and Printing, Inc., 445 12th Street, SW., Room CY-B402, Washington, DC 20554, telephone 301-816-2820, facsimile 301-816-0169, or via e-mail joshir@erols.com.

This document does not contain new or modified information collection requirements subject to the Paperwork Reduction Act of 1995 (PRA), Public Law 104-13. In addition, therefore, it does not contain any new or modified “information collection burden for small business concerns with fewer than 25 employees,” pursuant to the Small Business Paperwork Relief Act of 2002, Public Law 107-198, see 44 U.S.C. 3506(c)(4).

The Commission will send a copy of this Memorandum Opinion and Order in a report to Congress and the Government Accountability Office pursuant to the Congressional Review Act, see 5 U.S.C. 801(a)(1)(A).

List of Subjects in 47 CFR Part 73

Television broadcasting, Television.

Part 73 of Title 47 of the Code of Federal Regulations is amended as follows:

PART 73—[AMENDED]

1. The authority citation for part 73 continues to read as follows:

Authority: 47 U.S.C. 154, 303, 334 and 336.

§ 73.606 [Amended]

2. Section 73.606(b), the Table of Television Allotments under Arizona, is amended by removing TV channel 11+ and adding TV channel *11+ at Holbrook.

3. Section 73.606(b), the Table of Television Allotments under Arizona, is amended by removing TV channel *39 at Phoenix and adding TV channel 39, Phoenix.

Federal Communications Commission.
Marlene H. Dortch,
Secretary.

[FR Doc. 05-21869 Filed 11-1-05; 8:45 am]

BILLING CODE 6712-01-P